DEPARTMENT OF ENERGY

10 CFR Chs. II, III, and X

48 CFR Ch. 9

Semiannual Regulatory Agenda

AGENCY: Department of Energy.

ACTION: Notice of semiannual regulatory agenda.

SUMMARY: The Department of Energy (DOE) has prepared and is making available its portion of the semiannual Unified Agenda of Federal Regulatory and Deregulatory Actions (Agenda), including its Regulatory Plan (Plan), pursuant to Executive Order 12866, “Regulatory Planning and Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by the Energy Policy Act of 2005, the Energy Independence and Security Act of 2007, and programmatic needs of DOE offices.

The Internet is the basic means for disseminating the Agenda and providing users the ability to obtain information from the Agenda database. DOE's entire Fall 2012 Agenda can be accessed online by going to: www.reginfo.gov. Agenda entries reflect the status of activities as of approximately December 30, 2012.

Publication in the Federal Register is mandated by the Regulatory Flexibility Act (5 U.S.C. 602) only for Agenda entries that require either a regulatory flexibility analysis or periodic review under section 610 of that Act. DOE's regulatory flexibility agenda is made up of six rulemakings setting either energy efficiency standards or test procedures for the following products:

Battery chargers and external power supplies (energy efficiency standards)

Commercial Refrigeration Equipment (energy efficiency standards)

Distribution Transformers (energy efficiency standards)

Residential clothes washers (energy efficiency standards)

Residential refrigerators, refrigerator-freezers, and freezers (test procedures)

Walk-in coolers and freezers (energy efficiency standards)

The Plan appears in both the online Agenda and the Federal Register and includes the most important of DOE's significant regulatory actions and a Statement of Regulatory and Deregulatory Priorities.

Gregory H. Woods,
General Counsel.

Energy Efficiency and Renewable Energy—Proposed Rule Stage
Sequence No. | Title | Regulation Identifier No.
259 | Energy Conservation Standards for Walk-In Coolers and Walk-In Freezers (Reg Plan Seq No. 30) | 1904-AB86
260 | Energy Conservation Standards for Commercial Refrigeration Equipment | 1904-AC19
References in boldface appear in The Regulatory Plan in part II of this issue of the Federal Register.

Energy Efficiency and Renewable Energy—Final Rule Stage
Sequence No. | Title | Regulation Identifier No.
261 | Energy Efficiency Standards for Battery Chargers and External Power Supplies (Reg Plan Seq No. 31) | 1904-AB57
262 | Energy Efficiency Standards for Distribution Transformers (Reg Plan Seq No. 32) | 1904-AC04
263 | Test Procedures for Residential Refrigerators, Refrigerator-Freezers, and Freezers | 1904-AC76
References in boldface appear in The Regulatory Plan in part II of this issue of the Federal Register.

Energy Efficiency and Renewable Energy—Completed Actions
Sequence No. | Title | Regulation Identifier No.
264 | Energy Conservation Standards for Residential Clothes Washers | 1904-AB90

DEPARTMENT OF ENERGY (DOE)

Energy Efficiency and Renewable Energy (EE)

Proposed Rule Stage

259. Energy Conservation Standards for Walk-in Coolers and Walk-in Freezers

Regulatory Plan: This entry is Seq. No. 30 in part II of this issue of the Federal Register.

RIN: 1904-AB86

260. Energy Conservation Standards for Commercial Refrigeration Equipment

Legal Authority: 42 U.S.C. 6313(c)(5)

Abstract: DOE is reviewing and updating energy conservation standards, as required by the Energy Policy and Conservation Act, to reflect technological advances. All amended standards must be technologically feasible and economically justified. As required by EPCA, DOE published previously a final rule establishing energy conservation standards for ice-cream freezers, self-contained commercial refrigerators, freezers, and refrigerator-freezers without doors, for equipment manufactured after January 1, 2012. (74 FR 1092, Jan. 9, 2009) DOE is required to issue a final rule for this second review of energy conservation standards for commercial refrigeration equipment no later than January 1, 2013.

Timetable:

Action | Date | FR Cite
Notice: Public Meeting, Framework Document Availability | 05/06/10 | 75 FR 24824
Comment Period End | 06/07/10
Notice: Public Meeting, Data Availability | 03/30/11 | 76 FR 17573
Comment Period End | 05/16/11
NPRM | 07/00/13

Regulatory Flexibility Analysis Required: Yes.

Agency Contact: Charles Llenza, Office of Building Technologies Program, EE-2J, Department of Energy, Energy Efficiency and Renewable Energy, 1000 Independence Avenue SW., Washington, DC 20585, Phone: 202 586-2192, Email: charles.llenza@ee.doe.gov.

RIN: 1904-AC19

DEPARTMENT OF ENERGY (DOE)

Energy Efficiency and Renewable Energy (EE)

Final Rule Stage

261. Energy Efficiency Standards for Battery Chargers and External Power Supplies

Regulatory Plan: This entry is Seq. No. 31 in part II of this issue of the Federal Register.

RIN: 1904-AB57

262. Energy Efficiency Standards for Distribution Transformers

Regulatory Plan: This entry is Seq. No. 32 in part II of this issue of the Federal Register.

RIN: 1904-AC04

263. • Test Procedures for Residential Refrigerators, Refrigerator-Freezers, and Freezers

Legal Authority: 42 U.S.C. 6293(b)(2)

Abstract: DOE is conducting a rulemaking to amend the existing test procedures for residential refrigerators, refrigerator-freezers, and freezers in order to provide a test for measuring ice maker energy use and to address other matters that were raised during the previous test procedure rulemaking for these products.

Timetable:

Action | Date | FR Cite
Final Action | 03/00/13
NPRM | 07/00/13

Regulatory Flexibility Analysis Required: Yes.

Agency Contact: Lucas Adin, Project Manager, EE-2J, Department of Energy, Energy Efficiency and Renewable Energy, 1000 Independence Avenue SW., Washington, DC 20585, Phone: 202 287-1317, Email: lucas.adin@ee.doe.gov.

RIN: 1904-AC76

DEPARTMENT OF ENERGY (DOE)

Energy Efficiency and Renewable Energy (EE)

Completed Actions

264. Energy Conservation Standards for Residential Clothes Washers

Legal Authority: 42 U.S.C. 6295(g)(9)

Abstract: This rulemaking will implement a provision in the Energy Independence and Security Act of 2007 that amended the Energy Policy and Conservation Act to require the Secretary of Energy to publish by December 31, 2011, a final rule determining whether to amend energy conservation standards for residential clothes washers, with any amended standards applicable to clothes washers manufactured on or after January 1, 2015.

Completed:

Reason | Date | FR Cite
Direct Final Rule | 05/31/12 | 77 FR 32308
NPRM | 05/31/12 | 77 FR 32381
Direct Final Rule Comment Period End | 09/18/12
Direct Final Rule Effective | 09/28/12
Final Action | 10/01/12 | 77 FR 59719

Regulatory Flexibility Analysis Required: Yes.

Agency Contact: Stephen Witkowski, Phone: 202 586-7463, Email: stephen.witkowski@ee.doe.gov.

RIN: 1904-AB90

[FR Doc. 2012-31497 Filed 1-7-13; 8:45 am]

BILLING CODE 6450-01-P